OFFICE OF PERSONNEL MANAGEMENT

5 CFR Part 532

RIN 3206-AM38

Prevailing Rate Systems; Abolishment of Cumberland, ME, as a Nonappropriated Fund Federal Wage System Wage Area

AGENCY: U.S. Office of Personnel Management.

ACTION: Interim rule with request for comments.

SUMMARY: The U.S. Office of Personnel Management is issuing an interim rule to abolish the Cumberland, Maine, nonappropriated fund (NAF) Federal Wage System (FWS) wage area and redefine Cumberland, Kennebec, and Penobscot Counties, ME, to the York, ME, NAF wage area. Aroostook, Hancock, Knox, Sagadahoc, and Washington Counties, ME, will no longer be defined. These changes are necessary because the closure of the Naval Air Station Brunswick will leave the Cumberland wage area without an activity having the capability to conduct a local wage survey.

DATES: Effective date: This regulation is effective on June 2, 2011. We must receive comments on or before July 5, 2011. Applicability date: FWS employees remaining in the Cumberland wage area will be transferred to the York wage area schedule on the first day of the first applicable pay period beginning on or after July 25, 2011.

ADDRESSES: Send or deliver comments to Jerome D. Mikowicz, Deputy Associate Director for Pay and Leave, Employee Services, U.S. Office of Personnel Management, Room 7H31, 1900 E Street, NW., Washington, DC 20415-8200; e-mail pay-leave-policy@opm.gov; or FAX: (202) 606-4264.

FOR FURTHER INFORMATION CONTACT: Madeline Gonzalez, (202) 606-2838; e-mail pay-leave-policy@opm.gov; or FAX: (202) 606-4264.

SUPPLEMENTARY INFORMATION: The Cumberland, Maine, nonappropriated fund (NAF) Federal Wage System (FWS) wage area is presently composed of one survey county, Cumberland County, ME, and seven area of application counties, Aroostook, Hancock, Kennebec, Knox, Penobscot, Sagadahoc, and Washington Counties, ME. Under section 532.219 of title 5, Code of Federal Regulations, the U.S. Office of Personnel Management (OPM) may establish an NAF wage area when there are a minimum of 26 NAF wage employees in the survey area, the local activity has the capability to host annual local wage surveys, and the survey area has at least 1,800 private enterprise employees in establishments within survey specifications. The Department of Defense (DOD) notified OPM that the imminent closure of the Naval Air Station Brunswick will leave the Cumberland NAF wage area without an activity having the capability to conduct a local wage survey. The NAF FWS employment in Cumberland County is currently 10 employees at the Navy Exchange, 17 employees at Morale, Welfare, and Recreation, and 2 employees at the Coast Guard Exchange System. DOD recommended that OPM abolish the Cumberland NAF FWS wage area and redefine Cumberland, Kennebec, and Penobscot Counties, ME, to the York, ME, NAF wage area.

Since Cumberland, Kennebec, and Penobscot Counties will have continuing NAF employment and do not meet the regulatory criteria under 5 CFR 532.219 to be separate survey areas, they must be areas of application. In defining counties as area of application counties, OPM considers the following criteria:

(i) Proximity of largest facilities activity in each county;

(ii) Transportation facilities and commuting patterns; and

(iii) Similarities of the counties in:

(A) Overall population;

(B) Private employment in major industry categories; and

(C) Kinds and sizes of private industrial establishments.

In selecting a wage area to which Cumberland, Kennebec, and Penobscot Counties should be redefined, all criteria favor the York NAF wage area. Based on the application of the regulatory criteria, OPM is defining Cumberland, Kennebec, and Penobscot Counties as area of application counties to the York NAF wage area.

OPM is removing Aroostook, Hancock, Knox, Sagadahoc, and Washington Counties from the wage area definition. There are no longer NAF FWS employees working in Aroostook, Hancock, Knox, Sagadahoc, and Washington Counties. Under 5 U.S.C. 5343(a)(1)(B)(i), NAF wage areas “shall not extend beyond the immediate locality in which the particular prevailing rate employees are employed.” Therefore, Aroostook, Hancock, Knox, Sagadahoc, and Washington Counties should not be defined as part of an NAF wage area.

The York NAF wage area would consist of one survey county, York County, ME, and five area of application counties: Cumberland, Kennebec, and Penobscot Counties, ME; Rockingham County, NH; and Windsor County, VT. FWS employees remaining in the Cumberland wage area will be transferred to the York wage area schedule on the first day of the first applicable pay period beginning on or after July 25, 2011. The Federal Prevailing Rate Advisory Committee, the national labor-management committee responsible for advising OPM on matters concerning the pay of FWS employees, has reviewed and recommended these changes by consensus.

Waiver of Notice of Proposed Rulemaking and Delay in Effective Date

Pursuant to 5 U.S.C. 553(b)(3)(B) and (d)(3), OPM finds that good cause exists to waive the general notice of proposed rulemaking. Also pursuant to 5 U.S.C. 553(d)(3), OPM finds that good cause exists for making this rule effective in less than 30 days. This notice is being waived and the regulation is being made effective in less than 30 days because the imminent closure of the Naval Air Station Brunswick will leave the Cumberland wage area without an activity having the capability to conduct a local wage survey and the remaining NAF FWS employees in Cumberland, Kennebec, and Penobscot Counties must be transferred to a continuing wage area as soon as possible.

Regulatory Flexibility Act

OPM certifies that these regulations will not have a significant economic impact on a substantial number of small entities because they will affect only Federal agencies and employees.

List of Subjects in 5 CFR Part 532

Administrative practice and procedure, Freedom of information, Government employees, Reporting and recordkeeping requirements, Wages.

U.S. Office of Personnel Management.
John Berry,
Director.

Accordingly, the U.S. Office of Personnel Management is amending 5 CFR part 532 as follows:

PART 532—PREVAILING RATE SYSTEMS

1. The authority citation for part 532 continues to read as follows:

Authority: 5 U.S.C. 5343, 5346; § 532.707 also issued under 5 U.S.C. 552.

Appendix B to Subpart B of Part 532—[Amended]

2. Appendix B to subpart B is amended by removing, under the State of Maine, “Cumberland.”

Appendix D to Subpart B of Part 532—Nonappropriated Fund Wage and Survey Areas

3. Appendix D to subpart B is amended for the State of Maine by removing the wage area listing for Cumberland, Maine, and revising the wage area listing for York, Maine, to read as follows:

* * * * *

Maine

York

Survey Area

Maine:

York

Area of application. Survey area plus:

Maine:

Cumberland

Kennebec

Penobscot

New Hampshire:

Rockingham

Vermont:

Windsor

* * * * *

[FR Doc. 2011-13701 Filed 6-1-11; 8:45 am]

BILLING CODE 6325-39-P